DEPARTMENT OF HEALTH AND HUMAN SERVICES

National Institutes of Health

Building Interdisciplinary Research Careers in Women's Health (BIRCWH)

AGENCY: National Institutes of Health, HHS.

ACTION: Notice.

SUMMARY: The Building Interdisciplinary Research Careers in Women's Health (BIRCWH) is an institutional mentored career-development program designed to connect junior faculty, known as BIRCWH Scholars, to senior faculty mentors with shared interest in women's health and sex differences research. The BIRCWH Annual Meeting is a gathering of senior and junior faculty that provides an opportunity to network and share scientific advances.

DATES: The meeting will be held on October 1, 2024, from 8 a.m. to 5 p.m. EDT.

ADDRESSES: The meeting will be in person; registration is at https://www.eventbrite.com/e/2024-bircwh-annual-meeting-tickets-893884130497. The meeting is viewable at https://videocast.nih.gov/watch=55110.

FOR FURTHER INFORMATION CONTACT: For information concerning this meeting, visit https://orwh.od.nih.gov/about/newsroom/events/2024-building-interdisciplinary-research-careers-in-womens-health-bircwh-annual-meeting, or contact Dr. Marquitta White, Senior Research Program Officer, Careers Section, in the Office of Research on Women's Health (ORWH), 6707 Democracy Boulevard, Suite 400, Bethesda, MD 20817, telephone: 301-402-1770; email: marquitta.white@nih.gov.

SUPPLEMENTARY INFORMATION: This notice is in accordance with 42 U.S.C. 287d of the Public Health Service Act, as amended. Created by the ORWH in partnership with NIH Institutes, Centers, and Offices.

This year, the BIRCWH abstracts have been grouped into nine categories with the following number of abstracts, from highest to lowest: Public Health (12), Reproductive Health (10), Sex and Gender Differences (9), Health Disparities (9), Cancer (9), Neuroscience (8), Clinical Research (7), Basic Research (6), and Bioengineering/Bioinformatics (3). The number and quality of abstracts centered on Public Health and Basic Research has increased this year, indicating a growing focus on women's health and the influence of biological sex on health and disease in these important areas. Specifically, several abstracts in these categories focus on maternal morbidity, perinatal health, and how biological sex and gender transition impact health and disease. The meeting will include the 2024 Ruth L. Kirschstein Memorial Lecture by Abbey B. Berenson M.D., MMS, Ph.D., and the 2024 Legacy of Leadership Lecture by Nina F. Schor, M.D., Ph.D.

Individuals interested in in-person attendance can register online at https://www.eventbrite.com/e/2024-bircwh-annual-meeting-tickets-893884130497.

More information about the speakers and agenda can be found at https://orwh.od.nih.gov/about/newsroom/events/2024-building-interdisciplinary-research-careers-in-womens-health-bircwh-annual-meeting.

This event is free.

Dated: September 16, 2024.
Lawrence A. Tabak,
Principal Deputy Director, National Institutes of Health.

[FR Doc. 2024-21717 Filed 9-23-24; 8:45 am]

BILLING CODE 4140-01-P